DEPARTMENT OF TRANSPORTATION

Federal Aviation Administration

14 CFR Part 39

[Docket No. FAA-2012-0809; Directorate Identifier 2011-NM-135-AD]

RIN 2120-AA64

Airworthiness Directives; The Boeing Company Airplanes

AGENCY: Federal Aviation Administration (FAA), DOT.

ACTION: Notice of proposed rulemaking (NPRM).

SUMMARY: We propose to supersede an existing airworthiness directive (AD) that applies to certain The Boeing Company Model 757 airplanes equipped with Rolls-Royce RB211-535E engines. The existing AD currently requires repetitive inspections for signs of damage of the aft hinge fittings and attachment bolts of the thrust reversers, and related investigative and corrective actions if necessary. The existing AD also provides for an optional terminating modification for the repetitive inspections. Since we issued the existing AD, we have received reports of incorrectly installed washers under the attachment bolts of the aft hinge fittings of the thrust reversers. For certain airplanes, this proposed AD would add a one-time inspection of the washers installed under the attachment bolts of the aft hinge fittings for correct installation sequence, and reinstallation if necessary. This proposed AD also adds an option for installing a redesigned aft hinge fitting with the trim already done, instead of trimming an existing or new hinge fitting, which is included in the existing optional terminating modification. We are proposing this AD to prevent failure of the attachment bolts and consequent separation of a thrust reverser from the airplane during flight, which could result in structural damage to the airplane.

DATES: We must receive comments on this proposed AD by October 1, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Nancy Marsh, Aerospace Engineer, Airframe Branch, ANM-120S, FAA, Seattle Aircraft Certification Office, 1601 Lind Avenue SW., Renton, Washington 98057-3356; phone: 425-917-6440; fax: 425-917-6590; email: nancy.marsh@faa.gov.

SUPPLEMENTARY INFORMATION:

Comments Invited

We invite you to send any written relevant data, views, or arguments about this proposed AD. Send your comments to an address listed under the ADDRESSES section. Include “Docket No. FAA-2012-0809; Directorate Identifier 2011-NM-135-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On June 8, 2008, we issued AD 2008-13-20, Amendment 39-15583 (73 FR 37786, July 2, 2008), for certain Model 757 airplanes equipped with Rolls-Royce RB211-535E engines. That AD requires repetitive inspections for signs of damage of the aft hinge fittings and attachment bolts of the thrust reversers, and related investigative and corrective actions if necessary. That AD also provides for an optional terminating modification for the repetitive inspections. That AD resulted from reports of several incidents of bolt failure at the aft hinge fittings of the thrust reversers due to, among other things, high operational loads. We issued that AD to prevent failure of the attachment bolts and consequent separation of a thrust reverser from the airplane during flight, which could result in structural damage to the airplane.

Actions Since Existing AD Was Issued

Since we issued AD 2008-13-20, Amendment 39-15583 (73 FR 37786, July 2, 2008), we have received reports of incorrectly installed washers installed under the attachment bolts of the aft hinge fittings of the thrust reversers, due to an error in the original service information.

Relevant Service Information

We reviewed Boeing Special Attention Service Bulletin 757-54-0049, Revision 1, dated September 23, 2009; and Revision 2, dated July 27, 2011 (for Model 757-200, -200CB, and -200PF airplanes). We also reviewed Boeing Special Attention Service Bulletin 757-54-0050, Revision 1, dated October 7, 2009; and Revision 2, dated July 27, 2011 (for Model 757-300 airplanes). For Group 1, Configuration 2 airplanes, Revision 1 of these service bulletins adds procedures for a detailed inspection of the washers installed under the attachment bolts of the aft hinge fittings for correct installation sequence, and if incorrect, removal and reinstallation of the washer stack up. Revision 2 of these service bulletins adds an option of installing a redesigned aft hinge fitting with the trim already done, instead of trimming an existing or new hinge fitting.

FAA's Determination

We are proposing this AD because we evaluated all the relevant information and determined the unsafe condition described previously is likely to exist or develop in other products of the same type design.

Proposed AD Requirements

This proposed AD would retain all requirements of AD 2008-13-20, Amendment 39-15583 (73 FR 37786, July 2, 2008). For certain airplanes, this proposed AD would add a detailed inspection of the washers installed under the attachment bolts of the aft hinge fittings for correct installation sequence, and if incorrect, removal and reinstallation of the washer stack up. This proposed AD would also include an option (as part of the optional terminating action in the existing AD) for installing a redesigned aft hinge fitting designed with the trim already done, instead of trimming an existing or new hinge fitting, which is included in the existing optional terminating modification. This proposed AD would require accomplishing the actions specified in the service information described previously, except as discussed under “Difference Between the Proposed AD and the Service Information.”

Difference Between the Proposed AD and the Service Information

Although Boeing Special Attention Service Bulletins 757-54-0049 and 757-54-0050, both Revision 2, both dated July 27, 2011, specify that you may contact the manufacturer for repair instructions, this proposed AD would require you to repair in one of the following ways:

• In accordance with a method that we approve; or

• Using data that meet the certification basis of the airplane, and that have been approved by the Boeing Commercial Airplanes Organization Designation Authorization (ODA) whom we have authorized to make those findings.

Costs of Compliance

We estimate that this proposed AD affects 389 airplanes of U.S. registry.

We estimate the following costs to comply with this proposed AD:

Estimated Costs
Action | Labor cost | Parts cost | Cost per product | Cost on U.S. operators
Retained inspections in AD 2008-13-20, Amendment 39-15583 (73 FR 37786, July 2, 2008) | 2 work-hours × $85 per hour = $170 per inspection cycle | $0 | $170 per inspection cycle | $66,130 per inspection cycle.
Optional modification in AD 2008-13-20 (includes new optional actions) | 61 work hours × $85 per hour = $5,185 | 5,276 | 10,461 | Up to $4,069,329.
New proposed inspection | 6 work-hours × $85 per hour = $510 | 0 | 510 | Up to $198,390.

We have received no definitive data that would enable us to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-13-20, Amendment 39-15583 (73 FR 37786, July 2, 2008), and adding the following new AD:

The Boeing Company: Docket No. FAA-2012-0809; Directorate Identifier 2011-NM-135-AD.

(a) Comments Due Date

The FAA must receive comments on this AD action by October 1, 2012.

(b) Affected ADs

This AD supersedes AD 2008-13-20, Amendment 39-15583 (73 FR 37786, July 2, 2008).

(c) Applicability

This AD applies to The Boeing Company Model 757-200, -200CB, -200PF, and -300 series airplanes, certificated in any category; equipped with Rolls-Royce RB211-535E engines.

(d) Subject

Joint Aircraft System Component (JASC)/Air Transport Association (ATA) of America Code 54, Nacelles/Pylons.

(e) Unsafe Condition

This AD results from reports of incorrectly installed washers under the attachment bolts of the aft hinge fittings of the thrust reversers. We are issuing this AD to prevent failure of the attachment bolts and consequent separation of a thrust reverser from the airplane during flight, which could result in structural damage to the airplane.

(f) Compliance

Comply with this AD within the compliance times specified, unless already done.

(g) Retained Repetitive Inspections/Investigative and Corrective Actions

This paragraph restates the requirements of paragraph (f) of AD 2008-13-20, Amendment 39-15583 (73 FR 37786, July 2, 2008), with revised service information. At the time specified in paragraph 1.E. “Compliance,” of Boeing Special Attention Service Bulletin 757-54-0049 or 757-54-0050, both dated July 16, 2007, as applicable; except as provided by paragraph (h) of this AD: Do a detailed inspection for signs of damage of the aft hinge fittings and attachment bolts of the thrust reversers by doing all the actions, including all applicable related investigative and corrective actions, as specified in the Accomplishment Instructions of the applicable service bulletins specified in paragraph (g)(1), (g)(2), or (g)(3); or paragraph (g)(4), (g)(5), or (g)(6) of this AD, as applicable. Do all applicable related investigative and corrective actions at the time specified in paragraph 1.E., “Compliance” of Boeing Special Attention Service Bulletin 757-54-0049 or 757-54-0050, both dated July 16, 2007. As of the effective date of this AD, only the service bulletin specified in paragraph (g)(3) or (g)(6) of this AD, as applicable, may be used to accomplish the actions required by this paragraph. If any damage is found and the service bulletin identified in paragraph (g)(1), (g)(2), (g)(3), (g)(4), (g)(5), or (g)(6) of this AD specifies to contact Boeing for appropriate action: Before further flight, repair using a method approved in accordance with the procedures specified in paragraph (n) of this AD.

(1) Boeing Special Attention Service Bulletin 757-54-0049, dated July 16, 2007.

(2) Boeing Special Attention Service Bulletin 757-54-0049, Revision 1, dated September 23, 2009.

(3) Boeing Special Attention Service Bulletin 757-54-0049, Revision 2, dated July 27, 2011.

(4) Boeing Service Bulletin 757-54-0050, dated July 16, 2007.

(5) Boeing Special Attention Service Bulletin 757-54-0050, Revision 1, dated October 7, 2009.

(6) Boeing Special Attention Service Bulletin 757-54-0050, Revision 2, dated July 27, 2011.

(h) Retained Exception to Service Information

This paragraph restates the requirements of paragraph (g) of AD 2008-13-20, Amendment 39-15583 (73 FR 37786, July 2, 2008). Where Boeing Special Attention Service Bulletin 757-54-0049 or Boeing Service Bulletin 757-54-0050, both dated July 16, 2007; as applicable; specifies compliance times relative to the date on the service bulletin, this AD requires compliance within the specified compliance time after August 6, 2008 (the effective date of AD 2008-13-20).

(i) Retained Optional Terminating Modification

This paragraph restates the actions specified in paragraph (h) of AD 2008-13-20, Amendment 39-15583 (73 FR 37786, July 2, 2008). Accomplishing the preventive modification identified in the service bulletins specified in paragraph (g)(1), (g)(2), or (g)(3); or paragraph (g)(4), (g)(5), or (g)(6) of this AD; as applicable; terminates the repetitive inspections required by paragraph (g) of this AD.

(j) Retained Concurrent Actions

This paragraph restates the requirements of paragraph (i) of AD 2008-13-20, Amendment 39-15583 (73 FR 37786, July 2, 2008). Prior to or concurrently with accomplishing the actions identified in the service bulletin specified in paragraph (g)(1), (g)(2), or (g)(3) of this AD; as applicable; accomplish the replacement specified in Boeing Special Attention Service Bulletin 757-54-0015, Revision 3, dated September 19, 1996.

(k) Retained Credit for Previous Actions

This paragraph restates the provisions of paragraph (j) of AD 2008-13-20, Amendment 39-15583 (73 FR 37786, July 2, 2008). This paragraph provides credit for the actions required by paragraph (j) of this AD, if those actions were performed before August 6, 2008 (the effective date of AD 2008-13-20) using Boeing Service Bulletin 757-54-0015, dated February 16, 1989; Revision 1, dated December 20, 1990; or Revision 2, dated April 21, 1994 (which are not incorporated by reference in this AD).

(l) New Requirements of This AD: Inspection of Washer Stack Up Sequence/Corrective Action

For Group 1, Configuration 2 airplanes: Within 3,000 flight cycles after the effective date of this AD, do a detailed inspection of the washers installed under the attachment bolts of the aft hinge fittings for correct installation sequence, in accordance with the Accomplishment Instructions of Boeing Special Attention Service Bulletin 757-54-0049 or 757-54-0050, both Revision 2, both dated July 27, 2011, as applicable. If an incorrect installation sequence is found, before further flight, remove and reinstall the washer stack up correctly, in accordance with the Accomplishment Instructions of Boeing Special Attention Service Bulletin 757-54-0049 or 757-54-0050, both Revision 2, both dated July 27, 2011, as applicable.

(m) Credit for Previous Actions

This paragraph provides credit for the actions required by paragraph (l) of this AD, if those actions were performed before the effective date of this AD using Boeing Special Attention Service Bulletin 757-54-0049, Revision 1, dated September 23, 2009; or Boeing Special Attention Service Bulletin 757-54-0050, Revision 1, dated October 7, 2009; as applicable.

(n) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

(4) AMOCs approved previously in accordance with AD 2008-13-20, Amendment 39-15583 (73 FR 37786, July 2, 2008), are approved as AMOCs for the corresponding provisions of this AD.

(o) Related Information

(1) For more information about this AD, contact Nancy Marsh, Aerospace Engineer, Airframe Branch, ANM-120S, FAA, Seattle Aircraft Certification Office, 1601 Lind Avenue SW., Renton, Washington 98057-3356; phone: 425-917-6440; fax: 425-917-6590; email: nancy.marsh@faa.gov.

(2) For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Issued in Renton, Washington, on August 9, 2012.
Ali Bahrami,
Manager, Transport Airplane Directorate, Aircraft Certification Service.

[FR Doc. 2012-20108 Filed 8-15-12; 8:45 am]

BILLING CODE 4910-13-P